DEPARTMENT OF AGRICULTURE

Submission for OMB Review; Comment Request

September 27, 2018.

The Department of Agriculture will submit the following information collection requirement(s) to OMB for review and clearance under the Paperwork Reduction Act of 1995, Public Law 104-13 on or after the date of publication of this notice. Comments are requested regarding: (1) Whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, Washington, DC; New Executive Office Building, 725 17th Street NW, Washington, DC 20503. Commenters are encouraged to submit their comments to OMB via email to: OIRA_Submission@omb.eop.gov or fax (202) 395-5806 and to Departmental Clearance Office, USDA, OCIO, Mail Stop 7602, Washington, DC 20250-7602.

Comments regarding these information collections are best assured of having their full effect if received by November 1, 2018. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

National Agricultural Statistics Service

Title: Floriculture Survey.

OMB Control Number: 0535-0093.

Summary of Collection: The primary function of the National Agricultural Statistics Service (NASS) is to prepare current official state and national estimates of crop and livestock production. Since 1985 Congress has provided funds to conduct an annual Commercial Floriculture Survey which obtains data on this important and growing industry. Several program changes have occurred since the previous approval in November of 2015. Results from the surveys that were conducted in January 2016 referencing 2015 production data, were published in April 2016. In January 2017 and 2018 the national surveys were postponed due to budget cuts. NASS did collect data for the State of Hawaii only for those two years under a cooperative agreement with the Hawaii State Dept. of Agriculture.

Following an extensive review of the floriculture industry and trends in production, NASS is proposing the following changes to the program. Based on the 2014 Horticultural Specialties Census, the top 16 states which represent 79.6% of the combined total of floriculture production and sales in the United States, will be surveyed. In addition, Congress has provided line item funding for the inclusion of Alaska into the Floriculture Survey program. The 17 States that will be included in the program in this renewal request are: Alaska, California, Colorado, Connecticut, Florida, Illinois, Michigan, Ohio, Oregon, New Jersey, New York, North Carolina, Pennsylvania, Texas, Virginia, Washington, and Wisconsin. New to this program are the States of Alaska, Colorado, Connecticut, Virginia, and Wisconsin. Dropped from the federally funded program are Hawaii, Maryland, and South Carolina. However, NASS has been contacted by the States of Arizona, Hawaii and Maryland about doing a reimbursable survey through a cooperative agreement with each State. These three State surveys will be included in this OMB approval request.

General authority for these data collection activities is granted under U.S. Code Title 7, Section 2204. This statute specifies that “The Secretary of Agriculture shall procure and preserve all information concerning agriculture which can be obtained by the collection of statistics . . . and shall distribute them among agriculturists”. The floriculture industry accounted for approximately $5.9 billion in wholesale sales at the U.S. level in 2014 (Census of Horticultural Specialties). In 2015 the 15 States that were surveyed by the Commercial Floriculture Survey accounted for $4.37 billion in wholesale sales or a little over 74% of the U.S. total.

Need and Use of the Information: NASS obtains basic agricultural statistics on production and value of floriculture products. The target population for this survey is all operations with production and sales of at least $10,000 of floriculture products. Data collected from the survey will assess alternative agriculture opportunities, and provide statistics for Federal and State agencies to monitor the use of agricultural chemicals. If the information is not collected data users could not keep abreast of changes.

Description of Respondents: Farms; Business or other-for-profit.

Number of Respondents: 12,000.

Frequency of Responses: Reporting: Annually.

Total Burden Hours: 5,793.

Ruth Brown,
Departmental Information Collection Clearance Officer.

[FR Doc. 2018-21381 Filed 10-1-18; 8:45 am]

BILLING CODE 3410-20-P